DEPARTMENT OF HEALTH AND HUMAN SERVICES

Centers for Disease Control and Prevention

[30DAY-13-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project

Evaluation of the Graduate Certificate Program—New—National Center for HIV, STD, and TB Prevention (NCHSTP), the Centers for Disease Control and Prevention (CDC). The National Center for HIV, STD and TB, CDC proposes to collect data to evaluate the Graduate Certificate Program (GCP). From July 1997 through January 2001, NCHSTP Prevention Support Office administered the GCP which funded 130 CDC public health professionals and 130 state and local public health professionals to attend a distance learning program that consisted of approximately one-half of the requirements of a graduate-level degree. The purpose of the proposed project is to evaluate the process, impact, and outcome measures of the GCP that were described in the original Request for Proposal (RFP). CDC is looking to establish perceived or measurable benefits of the program, as well as to evaluate the effectiveness of the distance-based education approach.

The data collected will be used to determine the effectiveness of the distance-based training approach, and to provide recommendations for developing similar training strategies in the future.

Data will be collected through an attitudinal survey that will be available in both paper and electronic copies. The survey will be administered to 520 respondents (approximately 260 state and local public health professionals (130 participants and 130 nonparticipants) and 260 supervisors (130 supervisors of participants and 130 supervisors of nonparticipants). It is estimated that it will take respondents approximately 20 minutes to complete the survey. The annual burden for this data collection is 192 hours.

Respondents | No. of respondents | No. of responses/ respondent | Average burden/ response (in hours)
Federal Public Health Professionals | 144 | 1 | 20/60
State and Local Public Health Professionals | 144 | 1 | 20/60
Supervisors of Participants | 144 | 1 | 20/60
Survey of Non-participant Supervisors | 144 | 1 | 20/60

Dated: December 19, 2002.
Nancy E. Cheal,
Acting Associate Director for Policy, Planning and Evaluation, Centers for Disease Control and Prevention.

[FR Doc. 02-32517 Filed 12-24-02; 8:45 am]

BILLING CODE 4163-18-P